OFFICE OF PERSONNEL MANAGEMENT

5 CFR Part 532

RIN 3206-AM82

Prevailing Rate Systems; Definition of Vanderburgh County, Indiana, to a Nonappropriated Fund Federal Wage System Wage Area

AGENCY: U.S. Office of Personnel Management.

ACTION: Proposed rule with request for comments.

SUMMARY: The U.S. Office of Personnel Management is issuing a proposed rule that would define Vanderburgh County, Indiana, as an area of application county to the St. Clair, IL, nonappropriated fund (NAF) Federal Wage System (FWS) wage area. This change is necessary because there are two NAF FWS employees working in Vanderburgh County and the county is not currently defined to a NAF wage area.

DATES: We must receive comments on or before June 20, 2013.

ADDRESSES: You may submit comments, identified by “RIN 3206-AM82,” using either of the following methods:

Federal eRulemaking Portal: http://www.regulations.gov. Follow the instructions for submitting comments.

Mail: Jeanne Jacobson, Acting Deputy Associate Director for Pay and Leave, Employee Services, U.S. Office of Personnel Management, Room 7H31, 1900 E Street NW., Washington, DC 20415-8200, or email pay-leave-policy@opm.gov.

FOR FURTHER INFORMATION CONTACT: Madeline Gonzalez, by telephone at (202) 606-2838, or by email at pay-leave-policy@opm.gov.

SUPPLEMENTARY INFORMATION: The U.S. Office of Personnel Management (OPM) is issuing a proposed rule that would define Vanderburgh County, Indiana, as an area of application to the St. Clair, IL, nonappropriated fund (NAF) Federal Wage System (FWS) wage area. The Department of Veterans Affairs (VA) Evansville Outpatient Clinic in Vanderburgh County has a new Veterans Canteen Service staffed with two NAF FWS employees.

Under section 532.219 of title 5, Code of Federal Regulations, each NAF wage area “shall consist of one or more survey areas, along with nonsurvey areas, if any, having nonappropriated fund employees.” Vanderburgh County does not meet the regulatory criteria under 5 CFR 532.219 to be established as a separate NAF wage area; however, nonsurvey counties may be combined with a survey area to form a wage area. Section 532.219 lists the regulatory criteria that OPM considers when defining FWS wage area boundaries:

• Proximity of largest facilities activity in each county;

• Transportation facilities and commuting patterns; and

• Similarities of the counties in:

○ Overall population;

○ Private employment in major industry categories; and

○ Kinds and sizes of private industrial establishments.

Based on an analysis of the regulatory criteria for defining NAF wage areas, we recommend that Vanderburgh, IN, be defined as an area of application to the St. Clair, IL, NAF FWS wage area. The proximity criterion favors the Christian, KY-Montgomery, TN, wage area more than the Hardin-Jefferson, KY or St. Clair, IL, wage areas. The transportation facilities and commuting patterns criterion does not favor one wage area more than another. Although the overall population, employment sizes, and kinds and sizes of private industrial establishments criterion does not favor one wage area more than another, the industrial distribution pattern for Vanderburgh County is similar to both the Christian-Montgomery and Hardin-Jefferson survey areas.

However, the two NAF FWS employees in Vanderburgh County work at the VA Evansville Outpatient Clinic, which is a satellite activity of the Marion VA Medical Center in Williamson County, IL. Williamson County is already defined to the St. Clair NAF wage area. Although a standard review of regulatory criteria shows that the proximity criterion favors defining Vanderburgh County to the Christian-Montgomery wage area, we believe the organizational relationship between the Evansville VA Outpatient Clinic and its parent facility, the Marion VA Medical Center, supports defining Vanderburgh County to the St. Clair wage area. An additional factor to consider is the relative proximity of the Outpatient Clinic to the Medical Center. The distance between the Evansville VA Outpatient Clinic and the Marion VA Medical Center is 87 miles (140 km). The distance between the Outpatient Clinic and the host activity in the Christian-Montgomery wage area is 100 miles (160 km). The Outpatient Clinic is closer by 13 miles (21 km) to its Medical Center than it is to the host activity in the Christian-Montgomery wage area. Based on our analysis of the organizational relationship and geographic proximity of the Medical Center and its Outpatient Clinic, OPM proposes to redefine Vanderburgh County to the St. Clair NAF wage area.

The proposed St. Clair NAF wage area would consist of one survey county, St. Clair County, IL; one area of application city, St. Louis City, MO; and five area of application counties, Madison and Williamson Counties, IL; Vanderburgh County, IN; and Jefferson and Pulaski Counties, MO.

The Federal Prevailing Rate Advisory Committee, the national labor-management committee responsible for advising OPM on matters concerning the pay of FWS employees, recommended this change by consensus. This change would be effective on the first day of the first applicable pay period beginning on or after 30 days following publication of the final regulations.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Elaine Kaplan,
Acting Director.

Accordingly, the U.S. Office of Personnel Management is amending 5 CFR part 532 as follows:

PART 532—PREVAILING RATE SYSTEMS

1. The authority citation for part 532 continues to read as follows:

Authority: 5 U.S.C. 5343, 5346; § 532.707 also issued under 5 U.S.C. 552.

Appendix D to Subpart B of Part 532—Nonappropriated Fund Wage and Survey Areas

2. Appendix D to subpart B is amended by revising the wage area listing for the St. Clair, IL, NAF wage areas to read as follows:

* * * * *
Illinois
* * * * *
St. Clair
Survey Area
Illinois:
St. Clair
Area of Application. Survey area plus:
Illinois:
Madison
Williamson
Indiana:
Vanderburgh
Missouri: (city)
St. Louis
Missouri: (counties)
Jefferson
Pulaski

* * * * *

[FR Doc. 2013-12065 Filed 5-20-13; 8:45 am]

BILLING CODE 6325-39-P